COMMITTEE FOR PURCHASE FROM PEOPLE WHO ARE BLIND OR SEVERELY DISABLED

Procurement List Additions and Deletions

AGENCY: Committee for Purchase From People Who Are Blind or Severely Disabled.

ACTION: Addition to and Deletions From Procurement List.

SUMMARY: This action adds to the Procurement List a service to be furnished by nonprofit agencies employing persons who are blind or have other severe disabilities, and deletes from the Procurement List products previously furnished by such agencies.

DATES: Effective Date: October 26, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@AbilityOne.gov.

SUPPLEMENTARY INFORMATION:

Additions

On August 1, 2008, the Committee for Purchase From People Who Are Blind or Severely Disabled published notice (73 F.R. 44960-44961) of proposed additions to the Procurement List.

After consideration of the material presented to it concerning capability of qualified nonprofit agencies to provide the service and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

End of Certification

Accordingly, the following service is added to the Procurement List:

Services:

Service Type/Location: Custodial Services, Walter Reed Army Medical Center, Glen Haven Annex and Forest Glen Annex, excluding Main Hospital and Armed Forces Pathology Institute, 6900 Georgia Avenue, Washington, DC.

NPA: MVLE, Inc., Springfield, VA.

Contracting Activity: Dept of the Army, National Region Contract Office, Washington, DC.

Deletions

On July 18, 2008, the Committee for Purchase From People Who Are Blind or Severely Disabled published notice (73 F.R. 41313-41314) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

BioRenewable Cleaners

NSN: 4510-00-NIB-0014—Waterless Hand Cleaner Dispenser.

NSN: 8520-00-NIB-0097—BioRenewables Waterless Plus Hand Cleaner Intro.

NSN: 8520-00-NIB-0096—BioRenewables Waterless Hand Cleaner Refill.

NSN: 8520-00-NIB-0095—BioRenewables Waterless Hand Cleaner Intro.

NSN: 8520-00-NIB-0094—BioRenewables Waterless Plus Hand Cleaner Refill.

NPA: Susquehanna Association for the Blind and Visually Impaired, Lancaster, PA.

Contracting Activity: GSA/FAS Southwest Supply Center (QSDAC), Fort Worth, TX.

Transparency Film, Xerographic

NSN: 7530-01-386-2376—Transparency Film, Xerographic w/Strip.

NPA: Industries of the Blind, Inc., Greensboro, NC.

Contracting Activity: GSA/FSS OFC SUP CTR—Paper Products, New York, NY.

Brake Pad Assembly

NSN: 2530-01-255-4215—Brake Pad Assembly.

NPA: Arizona Industries for the Blind, Phoenix, AZ.

Contracting Activity: U.S. Army Tank-Automotive and Armaments Command, Rock Island, IL.

Tracheotomy Care Kit

NSN: 6515-01-174-8844—Tracheotomy Care Kit.

NPA: Washington-Greene County Branch, PAB, Washington, PA.

Contracting Activity: Department of Veterans Affairs, National Acquisition Center, Hines, IL.

Kimberly M. Zeich,
Director, Program Operations.

[FR Doc. E8-22686 Filed 9-25-08; 8:45 am]

BILLING CODE 6353-01-P